DEPARTMENT OF COMMERCE

National Oceanic and Atmospheric Administration

[RTID 0648-XB849]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council will hold a public meeting of its Mackerel, Squid, and Butterfish (MSB) Monitoring Committee. See SUPPLEMENTARY INFORMATION for agenda details.

DATES: The meeting will be held on Friday, March 18, 2022, from 1:30 p.m. until 4 p.m.

ADDRESSES: The meeting will be held via webinar. Connection information will be posted to the calendar prior to the meeting at www.mafmc.org.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Council's Mackerel, Squid, and Butterfish (MSB) Monitoring Committee will review recent fishery performance and the Scientific and Statistical Committee's (SSC) catch recommendations regarding Illex squid and Atlantic mackerel. Based on the SSC's recommendations, the Monitoring Committee will develop recommendations about Illex squid specifications and Atlantic mackerel rebuilding.

Special Accommodations

These meetings are physically accessible to people with disabilities. Requests for sign language interpretation or other auxiliary aid should be directed to Shelley Spedden, (302) 526-5251, at least 5 days prior to the meeting date.

Authority: 16 U.S.C. 1801 et seq.

Dated: February 25, 2022.
Tracey L. Thompson,
Acting Deputy Director, Office of Sustainable Fisheries, National Marine Fisheries Service.

[FR Doc. 2022-04417 Filed 3-2-22; 8:45 am]

BILLING CODE 3510-22-P